DEPARTMENT OF STATE

[Public Notice 5101]

U.S. Advisory Commission on Public Diplomacy; Notice of Meeting

The U.S. Advisory Commission on Public Diplomacy will hold a meeting at the U.S. Department of State at 2201 C Street, NW., Washington, DC on July 21, 2005 at 10 a.m to 11 a.m. The Commissioners will discuss public diplomacy issues with senior officials of the department.

The Commission was reauthorized pursuant to Pub. L. 106-113 (H.R. 3194, Consolidated Appropriations Act, 2000). The U.S. Advisory Commission on Public Diplomacy is a bipartisan Presidentially appointed panel created by Congress in 1948 to provide oversight of U.S. Government activities intended to understand, inform and influence foreign publics. The Commission reports its findings and recommendations to the President, the Congress and the Secretary of State and the American people. Current Commission members include Barbara M. Barrett of Arizona, who is the Chairman; Harold Pachios of Maine; Ambassador Penne Percy Korth of Washington, DC; Ambassador Elizabeth Bagley of Washington, DC; Charles “Tre” Evers of Florida; Jay T. Snyder of New York; and Maria Sophia Aguirre of Washington, DC.

For more information, please contact Athena Katsoulos at (202) 203-7880.

Dated: July 6, 2005.
Athena Katsoulos,
Executive Director, Advisory Commission on Public Diplomacy, Department of State.

[FR Doc. 05-13788 Filed 7-12-05; 8:45 am]

BILLING CODE 4710-11-P